DEPARTMENT OF LABOR

Employment and Training Administration

[TA-W-56,536, TA-W-56,536A, and TA-W-56,536B]

Butler Manufacturing Company, Subsidiary of Bluescope Steel, LTD, Buildings Division, Wall and Roof Panels Production, Galesburg, IL; Buildings Division, Trim and Components Production, Galesburg, IL; Buildings Division, Secondaries Production, Galesburg, IL; Notice of Affirmative Determination Regarding Application for Reconsideration

By application of April 1, 2005, members of the subject worker group requested administrative reconsideration of the Department of Labor's Notice of Negative Determination Regarding Eligibility to Apply for Worker Adjustment Assistance, applicable to workers of the subject firm. The negative determination was signed on March 2, 2005 and the Notice of determination was published in the Federal Register on April 1, 2005 (70 FR 16847). The workers produced parts for pre-engineered metal buildings systems. Workers are separately identifiable by product line.

The petition was denied because the subject firm did not shift production abroad and there were no increased imports by the subject company or its customers during the relevant period.

The request for reconsideration alleges that the workers are not separately identifiable by product line, that the subject firm will shift of production to India and China in May/June 2005 and import pre-engineered metal buildings from those facilities, that the shift to Mexico will continue, and that the subject firm has increased imports from Mexico, Australia, China and India.

The Department has carefully reviewed the petitioner's request for reconsideration and shall further investigate the matter based on new information provided by the petitioners.

Conclusion

After careful review of the application, I conclude that the claim is of sufficient weight to justify reconsideration of the Department of Labor's prior decision. The application is, therefore, granted.

Signed at Washington, DC, this 6th day of April 2005.
Elliott S. Kushner,
Certifying Officer, Division of Trade Adjustment Assistance.

[FR Doc. E5-1928 Filed 4-22-05; 8:45 am]

BILLING CODE 4510-30-P